DEPARTMENT OF THE INTERIOR

Fish and Wildlife Service

[FWS-R1-ES-2011-N008; 10120-1112-0000-F2]

Endangered and Threatened Wildlife and Plants; Permit; Construction and Operation of Kaheawa II Wind Energy Generation Facility, Maui, HI; Draft Habitat Conservation Plan and Draft Environmental Assessment

AGENCY: Fish and Wildlife Service, Interior.

ACTION: Notice of availability; reopening of comment period.

SUMMARY: We, the U.S. Fish and Wildlife Service (Service), recently announced our receipt of an application from Kaheawa Wind Power II, LLC (KWP II) for an incidental take permit (permit) under the Endangered Species Act of 1973, as amended (ESA). KWP II is requesting an incidental take permit under the ESA to authorize take of three federally endangered and one threatened bird species. We are reopening the comment period on this permit application and the associated Draft Environmental Assessment (EA), Draft Habitat Conservation Plan (HCP), and proposed Implementation Agreement (IA). Comments previously submitted need not be resubmitted as they have been incorporated into the public record and will be fully considered in the final decision on the permit application.

DATES: All comments from interested parties must be received on or before March 10, 2011.

ADDRESSES: Please address written comments to Loyal Mehrhoff, Project Leader, Pacific Islands Fish and Wildlife Office, U.S. Fish and Wildlife Service, 300 Ala Moana Boulevard, Room 3-122, Honolulu, HI 96850. You may also send comments by facsimile to (808) 792-9580.

FOR FURTHER INFORMATION CONTACT: Dawn Greenlee, Fish and Wildlife Biologist, U.S. Fish and Wildlife Service (see ADDRESSES above), telephone (808) 792-9400.

SUPPLEMENTARY INFORMATION:

Public Comments Solicited

On November 9, 2010, we published in the Federal Register (75 FR 68821) a notice announcing our receipt of an application from KWP II for an incidental take permit under section 10(a) of the ESA (16 U.S.C. 1539(a)). KWP II is requesting an incidental take permit under the ESA to authorize take of the federally endangered Hawaiian petrel (Pterodroma sandwichensis), endangered Hawaiian goose (nene, Branta sandvicensis), endangered Hawaiian hoary bat (Lasiurus cinereus semotus), and the threatened Newell's (Townsend's) shearwater (Puffinus auricularis newelli) (collectively these four species are hereafter referred to as the “Covered Species”). Incidental take of the Covered Species may be caused by the construction and operation of the KWP II wind energy facility on the island of Maui. The permit application includes a draft HCP that describes the actions and the measures that KWP II will implement to minimize, mitigate, and monitor incidental take of the Covered Species, and a draft IA. A draft EA has been prepared in response to the permit application in accordance with requirements of the National Environmental Policy Act (NEPA).

The public comment period on the aforementioned documents closed on December 9, 2010. In response to a request from the general public, we are reopening the comment period for an additional 30 days. We specifically request comments from the public on whether the application meets the statutory and regulatory requirements for issuing a permit, and identification of any aspects of the human environment that should be analyzed in the draft EA. We are also soliciting comments on: The adequacy of the HCP to minimize, mitigate, and monitor the proposed incidental take of the Covered Species; adequacy of the funding being provided to implement the proposed mitigation program and any appropriate responses to changed circumstances; adequacy of the adaptive management program; and certainty that mitigation will occur. We are seeking comments on the adequacy of the HCP relative to the permit issuance criteria found in section 10(a) of the ESA, 16 U.S.C. 1539(a), and 50 CFR 13.21, 17.22, and 17.32. For information on how to access the HCP, EA, and IA, and to submit comments, along with additional background information on the permit application package, please refer to the previous Federal Register Notice (75 FR 68821), which was published on November 9, 2010.

Authority

This notice is provided under section 10(c) 16 U.S.C. 1539(c) of the ESA and NEPA regulations (40 CFR 1506.6). The public process for the proposed Federal permit action will be completed after the public comment period, at which time we will evaluate the permit application, the HCP, and associated documents (including the EA), as well as comments submitted, to determine whether or not the proposed action meets the requirements of section 10(a) of the ESA and has been adequately evaluated under NEPA.

Dated: January 18, 2011.
Richard Hannan,
Deputy Regional Director.

[FR Doc. 2011-2691 Filed 2-7-11; 8:45 am]

BILLING CODE 4310-55-P